DEPARTMENT OF TRANSPORTATION

Federal Aviation Administration

14 CFR Part 39

[Docket No. FAA-2005-21217; Directorate Identifier 2005-SW-06-AD; Amendment 39-14089; AD 2005-10-12]

RIN 2120-AA64

Airworthiness Directives; Schweizer Aircraft Corporation Model 269C, C-1, and D Helicopters

AGENCY: Federal Aviation Administration, DOT.

ACTION: Final rule; request for comments.

SUMMARY: This amendment adopts a new airworthiness directive (AD) for the Schweizer Aircraft Corporation (Schweizer) Model 269C, C-1, and D helicopters. This action requires inspecting, modifying, and testing the lateral control trim actuator assembly on certain serial-numbered helicopters. This amendment is prompted by three reported incidents of the inner spring tube separating from the lateral trim control housing resulting in a lateral cyclic control restriction. The actions specified in this AD are intended to prevent separation of the inner spring tube from the lateral trim control housing and the associated loss of trim control, increased local resistance to right cyclic stick movement, and an emergency landing or subsequent loss of control of the helicopter.

DATES: Effective June 2, 2005.

The incorporation by reference of certain publications listed in the regulations is approved by the Director of the Federal Register as of June 2, 2005.

Comments for inclusion in the Rules Docket must be received on or before July 18, 2005.

ADDRESSES: Use one of the following addresses to submit comments on this AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: (202) 493-2251; or

• Hand Delivery: Room PL-401 on the plaza level of the Nassif Building, 400 Seventh Street, SW., Washington, DC, between 9 a.m. and 5 p.m., Monday through Friday, except Federal holidays.

You may get the service information identified in this AD from Schweizer Aircraft Corporation, 1250 Schweizer Road, Horseheads, New York 14845.

Examining the Docket

You may examine the docket that contains the AD, any comments, and other information on the Internet at http://dms.dot.gov, or in person at the Docket Management System (DMS) Docket Offices between 9 a.m. and 5 p.m., Monday through Friday, except Federal holidays. The Docket Office (telephone (800) 647-5227) is located on the plaza level of the Department of Transportation Nassif Building at the street address stated in the ADDRESSES section. Comments will be available in the AD docket shortly after the DMS receives them.

FOR FURTHER INFORMATION CONTACT: Leung Lee, Aviation Safety Engineer, FAA, New York Aircraft Certification Office, Systems and Flight Test Branch, 1600 Stewart Ave., Suite 410, Westbury, New York 11590, telephone (516) 228-7309, fax (516) 794-5531.

SUPPLEMENTARY INFORMATION: This amendment adopts a new AD for the Schweizer Model 269C, C-1, and D helicopters. This action requires inspecting, modifying, and testing the lateral control trim actuator assembly on certain serial-numbered helicopters. This amendment is prompted by three reported incidents of the inner spring tube separating from the lateral trim control housing resulting in a lateral cyclic control restriction. This condition, if not corrected, could result in the loss of trim control, increased local resistance to right cyclic stick movement, and an emergency landing or subsequent loss of control of the helicopter.

We have reviewed Schweizer Service Bulletins B-283.1 and C1B-017.1, both dated March 4, 2005, and DB-012, dated February 8, 2005, which describe procedures for inspecting, modifying, and testing the lateral control trim actuator assembly, part number (P/N) 269A7316-13.

This unsafe condition is likely to exist or develop on other helicopters of the same type designs. Therefore, we are issuing this AD to prevent the separation of the inner spring tube from the lateral trim control housing, resulting in the loss of trim control, increased local resistance to right cyclic stick movement, and a subsequent emergency landing or loss of control of the helicopter. This AD requires the following:

• For Model 269C, S/N 1865 through 1874, with a prefix of S, and Model 269C-1, S/N 0169 through 0191, before further flight, inspect the lateral control trim actuator assembly for a scuffmark, indentation, or outer spring guide tube deformation. Inspect for security of the inner spring tube in the socket of the lateral trim control housing by rotating and pulling on the inner spring tube. Examine the resin bead around the base of the inner spring tube and housing socket. Resin should be translucent dark pink in color to indicate a good bond.

○ If a scuffmark, indentation, or deformation exists on the outer spring tube, or the inner spring tube is loose or has motion, or bonding is separated, before further flight, remove the lateral control trim actuator assembly; modify the trim control housing and the inner spring tube; and test run the actuator assembly.

○ If no scuffmark, indentation, or deformation exists on the outer spring tube, or the inner spring tube is not loose, or the bonding is not separated, within the next 25 hours time-in-service (TIS), modify the lateral control trim actuator assembly.

• For Model 269D, Configuration A, S/N 0044 through 0050 with an A suffix, within the next 50 hours TIS, modify the lateral control trim actuator assembly.

Accomplish the actions by following the service bulletins described previously.

The short compliance time involved is required because the previously described critical unsafe condition can adversely affect the controllability of the helicopter. Therefore, inspecting, modifying, and testing the lateral control trim assembly, P/N 269A7316-13, before further flight, for Model 269C and C-1 or no later than 50 hours TIS for Model 269D are required, and this AD must be issued immediately.

Since a situation exists that requires the immediate adoption of this regulation, it is found that notice and opportunity for prior public comment hereon are impracticable, and that good cause exists for making this amendment effective in less than 30 days.

We estimate that this AD will affect 20 helicopters and will take about:

• 2¼ work hours to inspect, modify, and test Schweizer Model 269C and C-1 helicopters (for 19 helicopters), and

• 3½ work hours to modify and test Schweizer Model 269D helicopters (for one helicopter).

• The average labor rate is $65 per hour.

• The cost is about $30 for adhesive, solvent, sandpaper, and nylon or cotton cord.

Based on these figures, we estimate the total cost impact of the AD on U.S. operators to be about $3,606.

Comments Invited

This AD is a final rule that involves requirements that affect flight safety and was not preceded by notice and an opportunity for public comment; however, we invite you to submit any written data, views, or arguments regarding this AD. Send your comments to an address listed under ADDRESSES. Include “Docket No. FAA-2005-21217; Directorate Identifier 2005-SW-06-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78), or you may visit http://dms.dot.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-10-12 Schweizer Aircraft Corporation: Amendment 39-14089. Docket No. FAA-2005-21217; Directorate Identifier 2005-SW-06-AD.

Applicability: Model 269C, serial number (S/N) 1865 through 1874 with a prefix of S; Model 269C-1, S/N 0169 through 0191; and Model 269D, Configuration A, S/N 0044 through 0050 with an A suffix, helicopters, with a lateral control trim actuator assembly, part number (P/N) 269A7316-13, installed, except for an actuator assembly containing a #30 drilled hole in the lateral trim control housing through the wall of the inner spring tube socket, certificated in any category.

Compliance: Required as indicated, unless accomplished previously.

To prevent separation of the inner spring tube from the lateral trim control housing, the associated loss of trim control, increased local resistance to right cyclic stick movement, and subsequent emergency landing or loss of control of the helicopter, accomplish the following:

(a) For Model 269C, S/N 1865 through 1874, with a prefix of S, and Model 269C-1, S/N 0169 through 0191, before further flight, inspect the lateral control trim actuator assembly for a scuffmark, indentation, or outer spring guide tube deformation. Inspect for security of the inner spring tube in the socket of the lateral trim control housing by rotating and pulling on the inner spring tube. Examine the resin bead around the base of the inner spring tube and housing socket. Resin should be translucent dark pink in color to indicate a good bond. Conduct the inspection by following the Procedures in Part I of Schweizer Service Bulletin B-283.1 or C1B-017.1, both dated March 4, 2005, respectively, as applicable.

(1) If a scuffmark, indentation, or deformation exists on the outer spring tube, or the inner spring tube is loose or has motion, or the bonding is separated, before further flight, remove the lateral control trim actuator assembly; modify the trim control housing and the inner spring tube; and test run the actuator assembly. Modify and test run the actuator assembly by following the Procedures in Part II of Schweizer Service Bulletin B-283.1 or C1B-017.1, both dated March 4, 2005, as applicable.

(2) If no scuffmark, indentation, or deformation exists on the outer spring tube, or the inner spring tube is not loose, or the bonding is not separated, within the next 25 hours time-in-service (TIS), modify the lateral control trim actuator assembly as required by paragraph (a)(1) of this AD.

(b) For Model 269D, Configuration A, S/N 0044 through 0050 with a suffix of A, within the next 50 hours TIS, modify the lateral control trim actuator assembly by following the Procedures in Schweizer Service Bulletin DB-012, paragraphs a through i, dated February 8, 2005.

(c) To request a different method of compliance or a different compliance time for this AD, follow the procedures in 14 CFR 39.19. Contact the New York Aircraft Certification Office, FAA, for information about previously approved alternative methods of compliance.

(d) Inspect, modify, and test the affected lateral control trim actuator assembly by following Schweizer Service Bulletin DB-012, dated February 8, 2005, or B-283.1, or C1B-017.1, both dated March 4, 2005, as applicable. The Director of the Federal Register approved this incorporation by reference in accordance with 5 U.S.C. 552(a) and 1 CFR part 51. Copies may be obtained from Schweizer Aircraft Corporation, 1250 Schweizer Road, Horseheads, New York 14845. Copies may be inspected at the National Archives and Records Administration (NARA). For information on the availability of this material at NARA, call 202-741-6030, or go to: http://www.archives.gov/federal_register/code_of_federal_regulations/ibr_locations.html.

(e) This amendment becomes effective on June 2, 2005.

Issued in Fort Worth, Texas, on May 6, 2005.
David A. Downey,
Manager, Rotorcraft Directorate, Aircraft Certification Service.

[FR Doc. 05-9764 Filed 5-17-05; 8:45 am]

BILLING CODE 4910-13-P